DEPARTMENT OF DEFENSE

Department of the Navy

[Docket ID: USN-2014-0005]

Proposed Collection; Comment Request

AGENCY: Naval Supply Systems Command (NAVSUP) Business Systems Center, U.S. Navy, DoD.

ACTION: Notice.

SUMMARY: In compliance with Section 3506(c)(2)(A) of the Paperwork Reduction Act of 1995, the Department of the Navy's NAVSUP Business Systems Center announces a proposed public information collection and seeks public comment on the provisions thereof. Comments are invited on: (a) Whether the proposed collection of information is necessary for the proper performance of the functions of the agency, including whether the information shall have practical utility; (b) the accuracy of the agency's estimate of the burden of the proposed information collection; (c) ways to enhance the quality, utility, and clarity of the information to be collected; and (d) ways to minimize the burden of the information collection on respondents, including through the use of automated collection techniques or other forms of information technology.

DATES: Consideration will be given to all comments received by March 31, 2014.

ADDRESSES: You may submit comments, identified by docket number and title, by any of the following methods:

• Federal eRulemaking Portal: http://www.regulations.gov. Follow the instructions for submitting comments.

• Mail: Federal Docket Management System Office, 4800 Mark Center Drive, East Tower, Suite 02G09, Alexandria, VA 22350-3100.

Instructions: All submissions received must include the agency name, docket number and title for this Federal Register document. The general policy for comments and other submissions from members of the public is to make these submissions available for public viewing on the Internet at http://www.regulations.gov as they are received without change, including any personal identifiers or contact information.

FOR FURTHER INFORMATION CONTACT: To request more information on this proposed information collection or to obtain a copy of the proposal and associated collection instruments, please email navsupbscaaa@navy.mil or address written inquiries to NAVSUP Enterprise Portal Program Manager, 5450 Carlisle Pike, Mechanicsburg, PA 17055-0791.

SUPPLEMENTARY INFORMATION: Title; Associated Form; and OMB Number: NAVSUP Enterprise Portal and Master Directory Services System Authorization Access Request (SAAR-N); SAAR-N OPNAV 5239/14; 0703-XXXX.

Needs and Uses: The information collection requirement is necessary to provide NAVSUP with a directory service capability that offers a single source from which NAVSUP Enterprise applications can obtain identity and contact information, via controlled interfaces, about NAVSUP Logistic users and Agency personnel; supports access control and authorization decisions, via controlled interfaces, for approved personnel to NAVSUP Enterprise applications.

Affected Public: Federal Government is the primary public source affected. Individuals and business or other for-profit organizations affected are Navy and Marine Corps Active and Reserve military members, civilian employees, and contractors and civilians assigned to duty or visiting on board Navy ships, NAVSUP Agencies and/or accessing NAVSUP Enterprise applications.

Annual Burden Hours: 500 Total hours.

Number of Respondents: 2000.

Responses per Respondent: 1.

Average Burden per Response: 15 minutes.

Frequency: On occasion.

Respondents are NAVSUP customers seeking access to NAVSUP Enterprise systems. The completed NAVSUP Enterprise Portal and Master Directory Services System Authorization Access Request (SAAR-N) form and associated NAVSUP User Provisioning system are used to associate users with access to specific NAVSUP systems. The information collected is necessary to provide NAVSUP with a directory service capability that offers a single source from which NAVSUP Enterprise applications can obtain identity and contact information to be used in access control and authorization decisions. If the form and registration are not completed, access to NAVSUP Enterprise web systems is not allowed.

Dated: January 27, 2014.
Aaron Siegel,
Alternate OSD Federal Register Liaison Officer, Department of Defense.

[FR Doc. 2014-01842 Filed 1-29-14; 8:45 am]

BILLING CODE 5001-06-P